COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and a service to the Procurement List that will be furnished by nonprofit agencies employing persons who are blind or have other severe disabilities, and deletes products and a service previously furnished by such agencies.

DATES: Comments must be received on or before: July 15, 2018.

ADDRESSES: Committee for Purchase From People Who Are Blind or Severely Disabled, 1401 S Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSN(s)—Product Name(s):

8405-00-NIB-0542—Kit, Pre-Cut Fabric, Pinpoint Dress Shirt, Coast Guard, Men's, Long Sleeve, White, 13½ x 32

8405-00-NIB-0543—Kit, Pre-Cut Fabric, Pinpoint Dress Shirt, Coast Guard, Men's, Long Sleeve, White, 14½ x 30

8405-00-NIB-0544—Kit, Pre-Cut Fabric, Pinpoint Dress Shirt, Coast Guard, Men's, Long Sleeve, White, 14½ x 31

8405-00-NIB-0545—Kit, Pre-Cut Fabric, Pinpoint Dress Shirt, Coast Guard, Men's, Long Sleeve, White, 14½ x 32

8405-00-NIB-0546—Kit, Pre-Cut Fabric, Pinpoint Dress Shirt, Coast Guard, Men's, Long Sleeve, White, 14½ x 33

8405-00-NIB-0547—Kit, Pre-Cut Fabric, Pinpoint Dress Shirt, Coast Guard, Men's, Long Sleeve, White, 14½ x 34

8405-00-NIB-0548—Kit, Pre-Cut Fabric, Pinpoint Dress Shirt, Coast Guard, Men's, Long Sleeve, White, 14½ x 35

8405-00-NIB-0549—Kit, Pre-Cut Fabric, Pinpoint Dress Shirt, Coast Guard, Men's, Long Sleeve, White, 14 x 30

8405-00-NIB-0550—Kit, Pre-Cut Fabric, Pinpoint Dress Shirt, Coast Guard, Men's, Long Sleeve, White, 14 x 32

8405-00-NIB-0551—Kit, Pre-Cut Fabric, Pinpoint Dress Shirt, Coast Guard, Men's, Long Sleeve, White, 14 x 33

8405-00-NIB-0552—Kit, Pre-Cut Fabric, Pinpoint Dress Shirt, Coast Guard, Men's, Long Sleeve, White, 14 x 34

8405-00-NIB-0553—Kit, Pre-Cut Fabric, Pinpoint Dress Shirt, Coast Guard, Men's, Long Sleeve, White, 15½ x 30

8405-00-NIB-0554—Kit, Pre-Cut Fabric, Pinpoint Dress Shirt, Coast Guard, Men's, Long Sleeve, White, 15½ x 31

8405-00-NIB-0555—Kit, Pre-Cut Fabric, Pinpoint Dress Shirt, Coast Guard, Men's, Long Sleeve, White, 15½ x 32

8405-00-NIB-0556—Kit, Pre-Cut Fabric, Pinpoint Dress Shirt, Coast Guard, Men's, Long Sleeve, White, 15½ x 33

8405-00-NIB-0557—Kit, Pre-Cut Fabric, Pinpoint Dress Shirt, Coast Guard, Men's, Long Sleeve, White, 15½ x 34

8405-00-NIB-0558—Kit, Pre-Cut Fabric, Pinpoint Dress Shirt, Coast Guard, Men's, Long Sleeve, White, 15½ x 35

8405-00-NIB-0559—Kit, Pre-Cut Fabric, Pinpoint Dress Shirt, Coast Guard, Men's, Long Sleeve, White, 15½ x 36

8405-00-NIB-0560—Kit, Pre-Cut Fabric, Pinpoint Dress Shirt, Coast Guard, Men's, Long Sleeve, White, 15 x 30

8405-00-NIB-0561—Kit, Pre-Cut Fabric, Pinpoint Dress Shirt, Coast Guard, Men's, Long Sleeve, White, 15 x 31

8405-00-NIB-0562—Kit, Pre-Cut Fabric, Pinpoint Dress Shirt, Coast Guard, Men's, Long Sleeve, White, 15 x 32

8405-00-NIB-0563—Kit, Pre-Cut Fabric, Pinpoint Dress Shirt, Coast Guard, Men's, Long Sleeve, White, 15 x 33

8405-00-NIB-0564—Kit, Pre-Cut Fabric, Pinpoint Dress Shirt, Coast Guard, Men's, Long Sleeve, White, 15 x 34

8405-00-NIB-0565—Kit, Pre-Cut Fabric, Pinpoint Dress Shirt, Coast Guard, Men's, Long Sleeve, White, 15 x 35

8405-00-NIB-0566—Kit, Pre-Cut Fabric, Pinpoint Dress Shirt, Coast Guard, Men's, Long Sleeve, White, 15 x 36

8405-00-NIB-0567—Kit, Pre-Cut Fabric, Pinpoint Dress Shirt, Coast Guard, Men's, Long Sleeve, White, 15 x 37

8405-00-NIB-0568—Kit, Pre-Cut Fabric, Pinpoint Dress Shirt, Coast Guard, Men's, Long Sleeve, White, 16½ x 31

8405-00-NIB-0569—Kit, Pre-Cut Fabric, Pinpoint Dress Shirt, Coast Guard, Men's, Long Sleeve, White, 16½ x 32

8405-00-NIB-0570—Kit, Pre-Cut Fabric, Pinpoint Dress Shirt, Coast Guard, Men's, Long Sleeve, White, 16½ x 33

8405-00-NIB-0571—Kit, Pre-Cut Fabric, Pinpoint Dress Shirt, Coast Guard, Men's, Long Sleeve, White, 16½ x 34

8405-00-NIB-0572—Kit, Pre-Cut Fabric, Pinpoint Dress Shirt, Coast Guard, Men's, Long Sleeve, White, 16½ x 35

8405-00-NIB-0573—Kit, Pre-Cut Fabric, Pinpoint Dress Shirt, Coast Guard, Men's, Long Sleeve, White, 16½ x 36

8405-00-NIB-0574—Kit, Pre-Cut Fabric, Pinpoint Dress Shirt, Coast Guard, Men's, Long Sleeve, White, 16½ x 37

8405-00-NIB-0575—Kit, Pre-Cut Fabric, Pinpoint Dress Shirt, Coast Guard, Men's, Long Sleeve, White, 16 x 31

8405-00-NIB-0576—Kit, Pre-Cut Fabric, Pinpoint Dress Shirt, Coast Guard, Men's, Long Sleeve, White, 16 x 32

8405-00-NIB-0577—Kit, Pre-Cut Fabric, Pinpoint Dress Shirt, Coast Guard, Men's, Long Sleeve, White, 16 x 33

8405-00-NIB-0578—Kit, Pre-Cut Fabric, Pinpoint Dress Shirt, Coast Guard, Men's, Long Sleeve, White, 16 x 34

8405-00-NIB-0579—Kit, Pre-Cut Fabric, Pinpoint Dress Shirt, Coast Guard, Men's, Long Sleeve, White, 16 x 35

8405-00-NIB-0580—Kit, Pre-Cut Fabric, Pinpoint Dress Shirt, Coast Guard, Men's, Long Sleeve, White, 16 x 36

8405-00-NIB-0581—Kit, Pre-Cut Fabric, Pinpoint Dress Shirt, Coast Guard, Men's, Long Sleeve, White, 17½ x 32

8405-00-NIB-0582—Kit, Pre-Cut Fabric, Pinpoint Dress Shirt, Coast Guard, Men's, Long Sleeve, White, 17½ x 33

8405-00-NIB-0583—Kit, Pre-Cut Fabric, Pinpoint Dress Shirt, Coast Guard, Men's, Long Sleeve, White, 17½ x 34

8405-00-NIB-0584—Kit, Pre-Cut Fabric, Pinpoint Dress Shirt, Coast Guard, Men's, Long Sleeve, White, 17½ x 35

8405-00-NIB-0585—Kit, Pre-Cut Fabric, Pinpoint Dress Shirt, Coast Guard, Men's, Long Sleeve, White, 17½ x 36

8405-00-NIB-0586—Kit, Pre-Cut Fabric, Pinpoint Dress Shirt, Coast Guard, Men's, Long Sleeve, White, 17 x 32

8405-00-NIB-0587—Kit, Pre-Cut Fabric, Pinpoint Dress Shirt, Coast Guard, Men's, Long Sleeve, White, 17 x 33

8405-00-NIB-0588—Kit, Pre-Cut Fabric, Pinpoint Dress Shirt, Coast Guard, Men's, Long Sleeve, White, 17 x 34

8405-00-NIB-0589—Kit, Pre-Cut Fabric, Pinpoint Dress Shirt, Coast Guard, Men's, Long Sleeve, White, 17 x 35

8405-00-NIB-0590—Kit, Pre-Cut Fabric, Pinpoint Dress Shirt, Coast Guard, Men's, Long Sleeve, White, 17 x 36

8405-00-NIB-0591—Kit, Pre-Cut Fabric, Pinpoint Dress Shirt, Coast Guard, Men's, Long Sleeve, White, 17 x 37

8405-00-NIB-0592—Kit, Pre-Cut Fabric, Pinpoint Dress Shirt, Coast Guard, Men's, Long Sleeve, White, 18½ x 33

8405-00-NIB-0593—Kit, Pre-Cut Fabric, Pinpoint Dress Shirt, Coast Guard, Men's, Long Sleeve, White, 18½ x 34

8405-00-NIB-0594—Kit, Pre-Cut Fabric, Pinpoint Dress Shirt, Coast Guard, Men's, Long Sleeve, White, 18½ x 35

8405-00-NIB-0595—Kit, Pre-Cut Fabric, Pinpoint Dress Shirt, Coast Guard, Men's, Long Sleeve, White, 18½ x 36

8405-00-NIB-0596—Kit, Pre-Cut Fabric, Pinpoint Dress Shirt, Coast Guard, Men's, Long Sleeve, White, 18½ x 37

8405-00-NIB-0597—Kit, Pre-Cut Fabric, Pinpoint Dress Shirt, Coast Guard, Men's, Long Sleeve, White, 18½ x 38

8405-00-NIB-0598—Kit, Pre-Cut Fabric, Pinpoint Dress Shirt, Coast Guard, Men's, Long Sleeve, White, 18 x 32

8405-00-NIB-0599—Kit, Pre-Cut Fabric, Pinpoint Dress Shirt, Coast Guard, Men's, Long Sleeve, White, 18 x 33

8405-00-NIB-0600—Kit, Pre-Cut Fabric, Pinpoint Dress Shirt, Coast Guard, Men's, Long Sleeve, White, 18 x 34

8405-00-NIB-0601—Kit, Pre-Cut Fabric, Pinpoint Dress Shirt, Coast Guard, Men's, Long Sleeve, White, 18 x 35

8405-00-NIB-0602—Kit, Pre-Cut Fabric, Pinpoint Dress Shirt, Coast Guard, Men's, Long Sleeve, White, 18 x 36

8405-00-NIB-0603—Kit, Pre-Cut Fabric, Pinpoint Dress Shirt, Coast Guard, Men's, Long Sleeve, White, 18 x 37

8405-00-NIB-0604—Kit, Pre-Cut Fabric, Pinpoint Dress Shirt, Coast Guard, Men's, Long Sleeve, White, 19 x 33

8405-00-NIB-0605—Kit, Pre-Cut Fabric, Pinpoint Dress Shirt, Coast Guard, Men's, Long Sleeve, White, 19 x 34

8405-00-NIB-0606—Kit, Pre-Cut Fabric, Pinpoint Dress Shirt, Coast Guard, Men's, Long Sleeve, White, 19 x 35

8405-00-NIB-0607—Kit, Pre-Cut Fabric, Pinpoint Dress Shirt, Coast Guard, Men's, Long Sleeve, White, 19 x 36

8405-00-NIB-0608—Kit, Pre-Cut Fabric, Pinpoint Dress Shirt, Coast Guard, Men's, Long Sleeve, White, 19 x 37

8405-00-NIB-0609—Kit, Pre-Cut Fabric, Pinpoint Dress Shirt, Coast Guard, Men's, Long Sleeve, White, 20 x 33

8405-00-NIB-0610—Kit, Pre-Cut Fabric, Pinpoint Dress Shirt, Coast Guard, Men's, Long Sleeve, White, 20 x 34

8405-00-NIB-0611—Kit, Pre-Cut Fabric, Pinpoint Dress Shirt, Coast Guard, Men's, Long Sleeve, White, 20 x 35

8405-00-NIB-0612—Kit, Pre-Cut Fabric, Pinpoint Dress Shirt, Coast Guard, Men's, Long Sleeve, White, 20 x 36

8410-00-NIB-0031—Kit, Pre-Cut Fabric, Pinpoint Dress Shirt, USMC, Women's, Short Sleeve, White, XOS

8410-00-NIB-0032—Kit, Pre-Cut Fabric, Pinpoint Dress Shirt, USMC, Women's, Short Sleeve, White, 18L

8410-00-NIB-0033—Kit, Pre-Cut Fabric, Pinpoint Dress Shirt, USMC, Women's, Short Sleeve, White, 2S

8410-00-NIB-0034—Kit, Pre-Cut Fabric, Pinpoint Dress Shirt, USMC, Women's, Short Sleeve, White, 2R

8410-00-NIB-0035—Kit, Pre-Cut Fabric, Pinpoint Dress Shirt, USMC, Women's, Short Sleeve, White, 4S

8410-00-NIB-0036—Kit, Pre-Cut Fabric, Pinpoint Dress Shirt, USMC, Women's, Short Sleeve, White, 4R

8410-00-NIB-0037—Kit, Pre-Cut Fabric, Pinpoint Dress Shirt, USMC, Women's, Short Sleeve, White, 4L

8410-00-NIB-0038—Kit, Pre-Cut Fabric, Pinpoint Dress Shirt, USMC, Women's, Short Sleeve, White, 6S

8410-00-NIB-0039—Kit, Pre-Cut Fabric, Pinpoint Dress Shirt, USMC, Women's, Short Sleeve, White, 6R

8410-00-NIB-0040—Kit, Pre-Cut Fabric, Pinpoint Dress Shirt, USMC, Women's, Short Sleeve, White, 6L

8410-00-NIB-0041—Kit, Pre-Cut Fabric, Pinpoint Dress Shirt, USMC, Women's, Short Sleeve, White, 8S

8410-00-NIB-0042—Kit, Pre-Cut Fabric, Pinpoint Dress Shirt, USMC, Women's, Short Sleeve, White, 8R

8410-00-NIB-0043—Kit, Pre-Cut Fabric, Pinpoint Dress Shirt, USMC, Women's, Short Sleeve, White, 8L

8410-00-NIB-0044—Kit, Pre-Cut Fabric, Pinpoint Dress Shirt, USMC, Women's, Short Sleeve, White, 10S

8410-00-NIB-0045—Kit, Pre-Cut Fabric, Pinpoint Dress Shirt, USMC, Women's, Short Sleeve, White, 10R

8410-00-NIB-0046—Kit, Pre-Cut Fabric, Pinpoint Dress Shirt, USMC, Women's, Short Sleeve, White, 10L

8410-00-NIB-0047—Kit, Pre-Cut Fabric, Pinpoint Dress Shirt, USMC, Women's, Short Sleeve, White, 12S

8410-00-NIB-0048—Kit, Pre-Cut Fabric, Pinpoint Dress Shirt, USMC, Women's, Short Sleeve, White, 12R

8410-00-NIB-0049—Kit, Pre-Cut Fabric, Pinpoint Dress Shirt, USMC, Women's, Short Sleeve, White, 12L

8410-00-NIB-0050—Kit, Pre-Cut Fabric, Pinpoint Dress Shirt, USMC, Women's, Short Sleeve, White, 14S

8410-00-NIB-0051—Kit, Pre-Cut Fabric, Pinpoint Dress Shirt, USMC, Women's, Short Sleeve, White, 14R

8410-00-NIB-0052—Kit, Pre-Cut Fabric, Pinpoint Dress Shirt, USMC, Women's, Short Sleeve, White, 14L

8410-00-NIB-0053—Kit, Pre-Cut Fabric, Pinpoint Dress Shirt, USMC, Women's, Short Sleeve, White, 16S

8410-00-NIB-0054—Kit, Pre-Cut Fabric, Pinpoint Dress Shirt, USMC, Women's, Short Sleeve, White, 16R

8410-00-NIB-0055—Kit, Pre-Cut Fabric, Pinpoint Dress Shirt, USMC, Women's, Short Sleeve, White, 16L

8410-00-NIB-0056—Kit, Pre-Cut Fabric, Pinpoint Dress Shirt, USMC, Women's, Short Sleeve, White, 18R

8410-00-NIB-0057—Kit, Pre-Cut Fabric, Pinpoint Dress Shirt, USMC, Women's, Short Sleeve, White, XOR

8410-00-NIB-0058—Kit, Pre-Cut Fabric, Pinpoint Dress Shirt, Navy, Women's, Short Sleeve, White, 32 x 12

8410-00-NIB-0059—Kit, Pre-Cut Fabric, Pinpoint Dress Shirt, Navy, Women's, Short Sleeve, White, 32 x 13

8410-00-NIB-0060—Kit, Pre-Cut Fabric, Pinpoint Dress Shirt, Navy, Women's, Short Sleeve, White, 34 x 12

8410-00-NIB-0061—Kit, Pre-Cut Fabric, Pinpoint Dress Shirt, Navy, Women's, Short Sleeve, White, 34 x 13

8410-00-NIB-0062—Kit, Pre-Cut Fabric, Pinpoint Dress Shirt, Navy, Women's, Short Sleeve, White, 34 x 14

8410-00-NIB-0063—Kit, Pre-Cut Fabric, Pinpoint Dress Shirt, Navy, Women's, Short Sleeve, White, 34 x 15

8410-00-NIB-0064—Kit, Pre-Cut Fabric, Pinpoint Dress Shirt, Navy, Women's, Short Sleeve, White, 36 x 13

8410-00-NIB-0065—Kit, Pre-Cut Fabric, Pinpoint Dress Shirt, Navy, Women's, Short Sleeve, White, 36 x 14

8410-00-NIB-0066—Kit, Pre-Cut Fabric, Pinpoint Dress Shirt, Navy, Women's, Short Sleeve, White, 36 x 15

8410-00-NIB-0067—Kit, Pre-Cut Fabric, Pinpoint Dress Shirt, Navy, Women's, Short Sleeve, White, 38 x 13

8410-00-NIB-0068—Kit, Pre-Cut Fabric, Pinpoint Dress Shirt, Navy, Women's, Short Sleeve, White, 38 x 14

8410-00-NIB-0069—Kit, Pre-Cut Fabric, Pinpoint Dress Shirt, Navy, Women's, Short Sleeve, White, 38B x 15N

8410-00-NIB-0070—Kit, Pre-Cut Fabric, Pinpoint Dress Shirt, Navy, Women's, Short Sleeve, White, 38 x 16

8410-00-NIB-0071—Kit, Pre-Cut Fabric, Pinpoint Dress Shirt, Navy, Women's, Short Sleeve, White, 40 x 14

8410-00-NIB-0072—Kit, Pre-Cut Fabric, Pinpoint Dress Shirt, Navy, Women's, Short Sleeve, White, 40 x 15

8410-00-NIB-0073—Kit, Pre-Cut Fabric, Pinpoint Dress Shirt, Navy, Women's, Short Sleeve, White, 40 x 16

8410-00-NIB-0074—Kit, Pre-Cut Fabric, Pinpoint Dress Shirt, Navy, Women's, Short Sleeve, White, 42 x 15

8410-00-NIB-0075—Kit, Pre-Cut Fabric, Pinpoint Dress Shirt, Navy, Women's, Short Sleeve, White, 42 x 16

8410-00-NIB-0076—Kit, Pre-Cut Fabric, Pinpoint Dress Shirt, Navy, Women's, Short Sleeve, White, 44 x 14

8410-00-NIB-0077—Kit, Pre-Cut Fabric, Pinpoint Dress Shirt, Navy, Women's, Short Sleeve, White, 44 x 15

8410-00-NIB-0078—Kit, Pre-Cut Fabric, Pinpoint Dress Shirt, Navy, Women's, Short Sleeve, White, 44 x 16

8410-00-NIB-0079—Kit, Pre-Cut Fabric, Pinpoint Dress Shirt, Navy, Women's, Short Sleeve, White, 46 x 14

8410-00-NIB-0080—Kit, Pre-Cut Fabric, Pinpoint Dress Shirt, Navy, Women's, Short Sleeve, White, 46 x 15

8410-00-NIB-0081—Kit, Pre-Cut Fabric, Pinpoint Dress Shirt, Navy, Women's, Short Sleeve, White, 46 x 16

8410-00-NIB-0082—Kit, Pre-Cut Fabric, Pinpoint Dress Shirt, Navy, Women's, Short Sleeve, White, 46 x 17

8410-00-NIB-0083—Kit, Pre-Cut Fabric, Pinpoint Dress Shirt, Navy, Women's, Short Sleeve, White, 48 x 14

8410-00-NIB-0084—Kit, Pre-Cut Fabric, Pinpoint Dress Shirt, Navy, Women's, Short Sleeve, White, 48 x 15

8410-00-NIB-0085—Kit, Pre-Cut Fabric, Pinpoint Dress Shirt, Navy, Women's, Short Sleeve, White, 48 x 16

8410-00-NIB-0086—Kit, Pre-Cut Fabric, Pinpoint Dress Shirt, Navy, Women's, Short Sleeve, White, 48 x 17

8410-00-NIB-0087—Kit, Pre-Cut Fabric, Pinpoint Dress Shirt, Navy, Women's, Short Sleeve, White, 50 x 14

8410-00-NIB-0088—Kit, Pre-Cut Fabric, Pinpoint Dress Shirt, Navy, Women's, Short Sleeve, White, 50 x 15

8410-00-NIB-0089—Kit, Pre-Cut Fabric, Pinpoint Dress Shirt, Navy, Women's, Short Sleeve, White, 50 x 16

8410-00-NIB-0090—Kit, Pre-Cut Fabric, Pinpoint Dress Shirt, Navy, Women's, Short Sleeve, White, 50B x 17N

8410-00-NIB-0091—Kit, Pre-Cut Fabric, Pinpoint Dress Shirt, Navy, Women's, Short Sleeve, White, 50 x 18

8410-00-NIB-0092—Kit, Pre-Cut Fabric, Pinpoint Dress Shirt, Navy, Women's, Short Sleeve, White, 52 x 14

8410-00-NIB-0093—Kit, Pre-Cut Fabric, Pinpoint Dress Shirt, Navy, Women's, Short Sleeve, White, 52 x 15

8410-00-NIB-0094—Kit, Pre-Cut Fabric, Pinpoint Dress Shirt, Navy, Women's, Short Sleeve, White, 52 x 16

8410-00-NIB-0095—Kit, Pre-Cut Fabric, Pinpoint Dress Shirt, Navy, Women's, Short Sleeve, White, 52 x 17

Mandatory for: 100% of the requirements of Federal Prison Industries

Mandatory Source(s) of Supply: Winston-Salem Industries for the Blind, Inc., Winston-Salem, NC

Contracting Activity: Federal Prison System

Distribution: C-List

Service

Service Type: Recycling Service

Mandatory for: U.S. Army, Walter Reed Army Institute of Research, Safety & Environment Department, Forest Glen Annex, Buildings 500, 501, 503, 508, 509, 511 & the Temporary Phasing Facilities, 503 Robert Grant Avenue, Silver Spring, MD

Mandatory Source of Supply: MVLE, Inc., Springfield, VA

Contracting Activity: Dept. of the Army, W4PZ USA MED RSCH ACQUIS ACT

Deletions

The following products and service are proposed for deletion from the Procurement List:

Products

NSN(s)—Product Name(s):

7520-01-496-5479—Planner, Hanging Kit, EA

7520-01-584-0877—Planner, Hanging Kits, 20 Kits

Mandatory Source of Supply: Chicago Lighthouse Industries, Chicago, IL

Contracting Activity: General Services Administration, Philadelphia, PA

NSN(s)—Product Name(s):

7530-01-600-7616—Monthly Desk Planner, Dated 2018, Wire Bound, Non-refillable, Black Cover

7530-01-600-7593—Weekly Desk Planner, Dated 2018, Wire Bound, Non-refillable, Black Cover

7530-01-600-7583—Daily Desk Planner, Dated 2018, Wire bound, Non-refillable, Black Cover

7530-01-600-7605—Weekly Planner Book, Dated 2018, 5″ x 8″, Black

7510-01-600-7568—Monthly Wall Calendar, Dated 2018, Jan-Dec, 8½″ x 11″

7510-01-600-7629—Wall Calendar, Dated 2018, Wire Bound w/Hanger, 12″ x 17″

7510-01-600-7563—Wall Calendar, Dated 2018, Wire Bound w/hanger, 15½″ x 22″

Mandatory Source of Supply: Chicago Lighthouse Industries, Chicago, IL

Contracting Activity: General Services Administration, New York, NY

Service

Service Type: Microfiche/Microfilm Reproduction Service

Mandatory for: Great Plains Area: Department of Housing and Urban Development (HUD), Chicago, IL

Mandatory Source of Supply: Lester and Rosalie ANIXTER CENTER, Chicago, IL

Contracting Activity: Dept. of Housing and Urban Development

Amy Jensen,
Director, Business Operations.

[FR Doc. 2018-12903 Filed 6-14-18; 8:45 am]

BILLING CODE 6353-01-P